SMALL BUSINESS ADMINISTRATION

National Advisory Council; Public Meeting

The U.S. Small Business Administration (SBA) will be hosting a meeting of the National Advisory Councils (NAC). The meeting will be held from Wednesday, September 17th through Thursday, September 18th, 2003, at the Washington Hilton located at 1919 Connecticut Avenue, Washington, DC 20009.

Anyone wishing to attend and make an oral presentation to the Board must contact Kimberly Mace, no later than Tuesday, September 2, 2003, via e-mail or fax. Kimberly Mace, U.S. Small Business Administration, 409 3rd Street SW., Washington, DC 20416; (202) 401-8525 phone or (202) 481-2974 fax or e-mail kimberly.mace@sba.gov.

Sincerely,
Scott Morris,
Deputy Chief of Staff.

[FR Doc. 03-22226 Filed 8-29-03; 8:45 am]

BILLING CODE 8025-01-P